DEPARTMENT OF HOMELAND SECURITY

Federal Emergency Management Agency

[Docket ID FEMA-2014-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Houston (FEMA Docket No.: B-1335) | City of Dothan (13-04-3332P) | The Honorable Mike Schmitz, Mayor, City of Dothan, P.O. Box 2128, Dothan, AL 36302 | Engineering Department, 126 North St. Andrews, Dothan, AL 36303 | September 27, 2013 | 010104
| City of Dothan (12-04-8239P) | The Honorable Mike Schmitz, Mayor, City of Dothan, P.O. Box 2128, Dothan, AL 36302 | Engineering Department, 126 North St. Andrews, Dothan, AL 36303 | October 18, 2013 | 010104
Montgomery (FEMA Docket No.: B-1335) | City of Montgomery (13-04-2273P) | The Honorable Todd Strange, Mayor, City of Montgomery, 103 North Perry Street, Montgomery, AL 36104 | Engineering Department, 25 Washington Avenue, Montgomery, AL 36104 | October 31, 2013 | 010174
Arizona:
Cochise (FEMA Docket No.: B-1337) | Unincorporated areas of Cochise County (13-09-0282P) | The Honorable Ann English, Chair, Cochise County Board of Supervisors, 1415 Melody Lane, Building G, Bisbee, AZ 85603 | Cochise County Flood Control District, 1415 Melody Lane, Building F, Bisbee, AZ 85603 | September 9, 2013 | 040012
Maricopa (FEMA Docket No.: B-1337) | City of Chandler (13-09-0386P) | The Honorable Jay Tibshraeny, Mayor, City of Chandler, P.O. Box 4008, Chandler, AZ 85224 | Public Works Department, 215 East Buffalo Street, Chandler, AZ 85224 | September 20, 2013 | 040040
| City of Peoria (13-09-0048P) | The Honorable Bob Barrett, Mayor, City of Peoria, 8401 West Monroe Street, Peoria, AZ 85345 | City Hall, 8401 West Monroe Street, Peoria, AZ 85345 | August 30, 2013 | 040050
Maricopa (FEMA Docket No.: B-1335) | City of Peoria (13-09-0215P) | The Honorable Bob Barrett, Mayor, City of Peoria, 8401 West Monroe Street, Peoria, AZ 85345 | City Hall, 8401 West Monroe Street, Peoria, AZ 85345 | October 11, 2013 | 040050
| Unincorporated areas of Maricopa County (13-09-0215P) | The Honorable Andy Kunasek, Chairman, Maricopa County Board of Supervisors, 301 West Jefferson, 10th Floor, Phoenix, AZ 85003 | Maricopa County Flood Control District, 2801 West Durango Street, Phoenix, AZ 85009 | October 11, 2013 | 040037
| Unincorporated areas of Maricopa County (13-09-0216P) | The Honorable Andy Kunasek, Chairman, Maricopa County Board of Supervisors, 301 West Jefferson, 10th Floor, Phoenix, AZ 85003 | Maricopa County Flood Control District, 2801 West Durango Street, Phoenix, AZ 85009 | September 27, 2013 | 040037
Pinal (FEMA Docket No.: B-1335) | City of Maricopa (13-09-0917P) | The Honorable Christian Price, Mayor, City of Maricopa, P.O. Box 610, Maricopa, AZ 85139 | City Hall, 44624 West Garvey Avenue, Maricopa, AZ 85239 | October 21, 2013 | 040052
California:
Contra Costa (FEMA Docket No.: B-1337) | City of Pleasant Hill (13-09-0336P) | The Honorable Michael G. Harris, Mayor, City of Pleasant Hill, 100 Gregory Lane, Pleasant Hill, CA 94523 | Public Works Department, 100 Gregory Lane, Pleasant Hill, CA 94523 | August 5, 2013 | 060034
Los Angeles (FEMA Docket No.: B-1335) | Unincorporated areas of Los Angeles County (13-09-0378P) | The Honorable Mark Ridley-Thomas, Chairman, Los Angeles County Board of Supervisors, 500 West Temple Street, Los Angeles, CA 90012 | Los Angeles County Department of Public Works, 900 South Fremont Avenue, Alhambra, CA 91803 | September 30, 2013 | 065043
Merced (FEMA Docket No.: B-1337) | City of Merced (13-09-1225P) | The Honorable Stanley P. Thurston, Mayor, City of Merced, 678 West 18th Street, Merced, CA 95340 | City Hall, 678 West 18th Street, Merced, CA 95340 | September 6, 2013 | 060191
Riverside (FEMA Docket No.: B-1337) | City of Canyon Lake (13-09-0376P) | The Honorable Mary Craton, Mayor, City of Canyon Lake, 31516 Railroad Canyon Road, Canyon Lake, CA 92587 | City Hall, 31516 Railroad Canyon Road, Canyon Lake, CA 92587 | August 30, 2013 | 060753
| City of Menifee (13-09-0376P) | The Honorable Scott Mann, Mayor, City of Menifee, 29714 Haun Road, Menifee, CA 92586 | Planning Department, 29714 Haun Road, Menifee, CA 92586 | August 30, 2013 | 060176
| City of Riverside (12-09-2546P) | The Honorable Rusty Bailey, Mayor, City of Riverside, 3900 Main Street, Riverside, CA 92501 | Planning and Building Department, 3900 Main Street, Riverside, CA 92501 | September 3, 2013 | 060260
Riverside (FEMA Docket No.: B-1335) | Unincorporated areas of Riverside County (13-09-0484P) | The Honorable John J. Benoit, Chairman, Riverside County Board of Supervisors, P.O. Box 1647, Riverside, CA 92502 | Riverside County Flood Control and Water Conservation District, 1995 Market Street, Riverside, CA 92501 | September 30, 2013 | 060245
Sacramento (FEMA Docket No.: B-1335) | City of Citrus Heights (13-09-1081P) | The Honorable Steve Miller, Mayor, City of Citrus Heights, 6237 Fountain Square Drive, Citrus Heights, CA 95621 | General Services Department, Engineering Division, 6237 Fountain Square Drive, Citrus Heights, CA 95621 | October 18, 2013 | 060765
| Unincorporated areas of Sacramento County (13-09-1081P) | The Honorable Susan Peters, Chair, Sacramento County Board of Supervisors, 700 H Street, Suite 2450, Sacramento, CA 95814 | Municipal Services Agency, Department of Water Resources, 827 7th Street, Suite 301, Sacramento, CA 95814 | October 18, 2013 | 060262
| Unincorporated areas of Sacramento County (13-09-1460P) | The Honorable Susan Peters, Chair, Sacramento County Board of Supervisors, 700 H Street, Suite 2450, Sacramento, CA 95814 | Municipal Services Agency, Department of Water Resources, 827 7th Street, Suite 301, Sacramento, CA 95814 | October 18, 2013 | 060262
San Diego (FEMA Docket No.: B-1337) | City of San Marcos (13-09-1397P) | The Honorable Jim Desmond, Mayor, City of San Marcos, 1 Civic Center Drive, San Marcos, CA 92069 | City Hall, 1 Civic Center Drive, San Marcos, CA 92069 | September 6, 2013 | 060296
San Diego (FEMA Docket No.: B-1335) | City of Vista (13-09-0759P) | The Honorable Judy Ritter, Mayor, City of Vista, 200 Civic Center Drive, Vista, CA 92084 | City Hall, 200 Civic Center Drive, Vista, CA 92084 | October 7, 2013 | 060297
| Unincorporated areas of San Diego County (13-09-0628P) | The Honorable Greg Cox, Chairman, San Diego County Board of Supervisors, 1600 Pacific Highway, Room 335, San Diego, CA 92101 | San Diego County Department of Public Works, Flood Control Department, 5201 Ruffin Road, Suite P, San Diego, CA 92123 | October 18, 2013 | 060284
San Mateo (FEMA Docket No.: B-1337) | City of South San Francisco (13-09-1038P) | The Honorable Pedro Gonzalez, Mayor, City of South San Francisco, P.O. Box 711, South San Francisco, CA 94083 | City Hall, 400 Grand Avenue, South San Francisco, CA 94080 | September 9, 2013 | 065062
Santa Barbara (FEMA Docket No.: B-1337) | Unincorporated areas of Santa Barbara County (13-09-1226P) | The Honorable Salud Carbajal, Chairman, Santa Barbara County Board of Supervisors, 105 East Anapamu Street, Santa Barbara, CA 93101 | Santa Barbara County Public Works Department, Water Resources Division, 123 East Anapamu Street, Santa Barbara, CA 93101 | September 20, 2013 | 060331
Santa Clara (FEMA Docket No.: B-1335) | City of San Jose (13-09-1387P) | The Honorable Chuck Reed, Mayor, City of San Jose, 200 East Santa Clara Street, San Jose, CA 95113 | Department of Public Works, 200 East Santa Clara Street, San Jose, CA 95113 | September 30, 2013 | 060349
Ventura (FEMA Docket No.: B-1337) | City of Simi Valley (13-09-1766P) | The Honorable Bob Huber, Mayor, City of Simi Valley, 2929 Tapo Canyon Road, Simi Valley, CA 93063 | City Hall, 2929 Tapo Canyon Road, Simi Valley, CA 93063 | September 19, 2013 | 060421
Colorado:
Arapahoe (FEMA Docket No.: B-1335) | City of Aurora (13-08-0148P) | The Honorable Steve Hogan, Mayor, City of Aurora, 15151 East Alameda Parkway, Aurora, CO 80012 | Engineering Department, 15151 East Alameda Parkway, Aurora, CO 80012 | October 11, 2013 | 080002
Arapahoe (FEMA Docket No.: B-1337) | City of Centennial (13-08-0083P) | The Honorable Cathy Noon, Mayor, City of Centennial, 13133 East Arapahoe Road, Centennial, CO 80112 | Southeast Metro Stormwater Authority, 76 Inverness Drive East, Suite A, Centennial, CO 80112 | August 30, 2013 | 080315
Eagle (FEMA Docket No.: B-1335) | Unincorporated areas of Eagle County (12-08-0871P) | The Honorable John Stavney, Chairman, Eagle County Board of Commissioners, P.O. Box 850, Eagle, CO 81631 | Eagle County Engineering Department, 500 Broadway Street, Eagle, CO 81631 | October 25, 2013 | 080051
Jefferson (FEMA Docket No.: B-1337) | Unincorporated areas of Jefferson County (13-08-0231P) | The Honorable Donald Rosier, Chairman, Jefferson County Board of Commissioners, 100 Jefferson County Parkway, Golden, CO 80419 | Jefferson County Department of Planning and Zoning, 100 Jefferson County Parkway, Golden, CO 80419 | September 6, 2013 | 080087
Larimer (FEMA Docket No.: B-1335) | Unincorporated areas of Larimer County (12-08-0883P) | The Honorable Steve Johnson, Chairman, Larimer County Board of Commissioners, P.O. Box 1190, Fort Collins, CO 80522 | Larimer County Engineering Department, 200 West Oak Street, Fort Collins, CO 80521 | September 30, 2013 | 080101
Mesa (FEMA Docket No.: B-1335) | City of Grand Junction (13-08-0266P) | The Honorable Sam Susuras, Mayor, City of Grand Junction, 250 North 5th Street, Grand Junction, CO 81501 | City Hall, 250 North 5th Street, Grand Junction, CO 81501 | October 14, 2013 | 080117
| Unincorporated areas of Mesa County (13-08-0266P) | The Honorable Steven Acquafresca, Chairman, Mesa County Board of Commissioners, P.O. Box 20000, Grand Junction, CO 81502 | Mesa County Public Works Department, 200 South Spruce Street, Grand Junction, CO 81501 | October 14, 2013 | 080115
Routt (FEMA Docket No.: B-1337) | City of Steamboat Springs (13-08-0177P) | Ms. Deb Hinsvark, Manager, City of Steamboat Springs, P.O. Box 775088, Steamboat Springs, CO 80477 | City Hall, 124 10th Street, Steamboat Springs, CO 80477 | August 26, 2013 | 080159
Florida:
Charlotte (FEMA Docket No.: B-1335) | Unincorporated areas of Charlotte County (13-04-3688P) | The Honorable Christopher Constance, Chairman, Charlotte County Board of Commissioners, 18500 Murdock Circle, Port Charlotte, FL 33948 | Charlotte County Community Development Department, 18500 Murdock Circle, Port Charlotte, FL 33948 | October 11, 2013 | 120061
Collier (FEMA Docket No.: B-1337) | City of Naples (13-04-2098P) | The Honorable John F. Sorey, III, Mayor, City of Naples, 735 8th Street South, Naples, FL 34102 | Building Department, 295 Riverside Circle, Naples, FL 34102 | August 30, 2013 | 125130
Duval (FEMA Docket No.: B-1337) | City of Jacksonville (13-04-0158P) | The Honorable Alvin Brown, Mayor, City of Jacksonville, 117 West Duval Street, Jacksonville, FL 32202 | Development Services Division, 117 West Duval Street, Jacksonville, FL 32202 | September 6, 2013 | 120077
| City of Jacksonville (13-04-3128P) | The Honorable Alvin Brown, Mayor, City of Jacksonville, 117 West Duval Street, Jacksonville, FL 32202 | Development Services Division, 117 West Duval Street, Jacksonville, FL 32202 | August 30, 2013 | 120077
Duval (FEMA Docket No.: B-1335) | City of Jacksonville (13-04-3478P) | The Honorable Alvin Brown, Mayor, City of Jacksonville, 117 West Duval Street, Suite 400, Jacksonville, FL 32202 | Development Services Division, 117 West Duval Street, Jacksonville, FL 32202 | October 25, 2013 | 120077
Escambia (FEMA Docket No.: B-1335) | Unincorporated areas of Escambia County (13-04-3129P) | The Honorable Gene M. Valentino, Chairman, Escambia County Board of Commissioners, 221 Palafox Place, Suite 400, Pensacola, FL 32502 | Escambia County Development Services Department, 3363 West Park Place, Pensacola, FL 32505 | September 30, 2013 | 120080
| Pensacola Beach-Santa Rosa Island Authority (13-04-2463P) | The Honorable Thomas A. Campanella, DDS, Chairman, Pensacola Beach-Santa Rosa Island Authority Board of Commissioners, P.O. Box 1208, Pensacola Beach, FL 32562 | Pensacola Beach-Santa Rosa Island Authority Development Department, 1 Via De Luna, Pensacola Beach, FL 32561 | October 11, 2013 | 125138
Lake (FEMA Docket No.: B-1335) | Unincorporated areas of Lake County (13-04-3459P) | The Honorable Leslie Shamrock Campione, Chair, Lake County Board of Commissioners, P.O. Box 7800, Tavares, FL 32778 | Lake County Public Works Department, 437 Ardice Avenue, Eustis, FL 32726 | October 28, 2013 | 120421
Lee (FEMA Docket No.: B-1335) | Unincorporated areas of Lee County (13-04-3479P) | The Honorable Cecil L. Pendergrass, Chairman, Lee County Board of Commissioners, P.O. Box 398, Fort Myers, FL 33902 | Lee County Community Development Department, 1500 Monroe Street, 2nd Floor, Fort Myers, FL 33901 | October 3, 2013 | 125124
Pinellas (FEMA Docket No.: B-1335) | City of Clearwater (13-04-2561P) | The Honorable George N. Cretekos, Mayor, City of Clearwater, 112 South Osceola Avenue, Clearwater, FL 33756 | City Audit Department, 100 South Myrtle Avenue, Suite 220, Clearwater, FL 33756 | October 4, 2013 | 125096
Sumter (FEMA Docket No.: B-1337) | Unincorporated areas of Sumter County (13-04-1285P) | The Honorable Doug Gilpin, Chairman, Sumter County Board of Commissioners, 7375 Powell Road, Wildwood, FL 34785 | Sumter County Planning Department, 7375 Powell Road, Wildwood, FL 34785 | September 20, 2013 | 120296
Georgia:
Dougherty (FEMA Docket No.: B-1337) | City of Albany (13-04-1420P) | The Honorable Dorothy Hubbard, Mayor, City of Albany, 222 Pine Avenue, Albany, GA 31701 | City Hall, 222 Pine Avenue, Albany, GA 31701 | September 6, 2013 | 130075
Glynn (FEMA Docket No.: B-1337) | Unincorporated areas of Glynn County (13-04-2726P) | The Honorable Mary Hunt, Chair, Glynn County Board of Commissioners, 172 Palmera Lane, Brunswick, GA 31525 | Glynn County Building Department, 1725 Reynolds Street, Brunswick, GA 31525 | August 30, 2013 | 130092
Mississippi: Union (FEMA Docket No.: B-1337) | Town of New Albany (13-04-2091P) | The Honorable Tim Kent, Mayor, Town of New Albany, P.O. Box 56, New Albany, MS 38652 | Town Hall, 101 West Bankhead Street, New Albany, MS 38652 | July 22, 2013 | 280174
Nevada: Clark (FEMA Docket No.: B-1335) | City of Henderson (13-09-0920P) | The Honorable Andy Hafen, Mayor, City of Henderson, 240 Water Street, Henderson, NV 89015 | Public Works Department, 240 Water Street, Henderson, NV 89015 | October 4, 2013 | 320005
North Carolina:
Rowan (FEMA Docket No.: B-1335) | Town of Granite Quarry (12-04-5555P) | The Honorable Mary S. Ponds, Mayor, Town of Granite Quarry, 143 North Salisbury Avenue, Granite Quarry, NC 28072 | Town Hall, 143 North Salisbury Avenue, Granite Quarry, NC, 28072 | October 17, 2013 | 370212
Union (FEMA Docket No.: B-1335) | Town of Waxhaw (13-04-3703P) | The Honorable Duane Gardner, Mayor, Town of Waxhaw, 317 North Broome Street, Waxhaw, NC 28173 | Town Hall, 317 North Broome Street, Waxhaw, NC 28173 | October 10, 2013 | 370473
| Unincorporated areas of Union County (12-04-5106P) | The Honorable Jerry Simpson, Chairman, Union County Board of Commissioners, 500 North Main Street, Monroe, NC 28112 | Union County Planning Department, 407 North Main Street, Room 149, Monroe, NC 28112 | October 17, 2013 | 370234
| Unincorporated areas of Union County (13-04-3703P) | The Honorable Jerry Simpson, Chairman, Union County Board of Commissioners, 500 North Main Street, Monroe, NC 28112 | Union County Planning Department, 407 North Main Street, Room 149, Monroe, NC 28112 | October 10, 2013 | 370234
North Dakota: Stark (FEMA Docket No.: B-1337) | Unincorporated areas of Stark County (13-08-0275P) | The Honorable Ken Zander, Chairman, Stark County Board of Commissioners, P.O. Box 130, Dickinson, ND 58602 | Stark County Recorder's Office, 51 3rd Street East, Dickinson, ND 58602 | August 19, 2013 | 385369
South Carolina:
Berkeley (FEMA Docket No.: B-1337) | Town of Moncks Corner (13-04-1115P) | The Honorable William W. Peagler, III, Mayor, Town of Moncks Corner, P.O. Box 700, Moncks Corner, SC 29461 | Town Hall, 118 Carolina Avenue, Moncks Corner, SC 29461 | September 19, 2013 | 450031
Greenville (FEMA Docket No.: B-1337) | City of Greenville (13-04-1043P) | The Honorable Knox White, Mayor, City of Greenville, P.O. Box 2207, Greenville, SC 29602 | City Council Office, 206 South Main Street, Greenville, SC 29601 | July 26, 2013 | 450091
Tennessee: Knox (FEMA Docket No.: B-1337) | City of Knoxville (13-04-1221P) | The Honorable Madeline Rogero, Mayor, City of Knoxville, P.O. Box 1631, Knoxville, TN 37902 | Engineering Division, City County Building, 400 Main Street, Room 480, Knoxville, TN 37902 | September 20, 2013 | 475434
Utah: Utah (FEMA Docket No.: B-1335) | City of Lindon (13-08-0544P) | The Honorable Jim Dain, Mayor, City of Lindon, 100 North State Street, Lindon, UT 84042 | Council Chambers Office, 100 North State Street, Lindon, UT 84042 | October 25, 2013 | 490210
Wyoming: Natrona (FEMA Docket No.: B-1337) | City of Casper (13-08-0084P) | The Honorable Kenyne Schlager, Mayor, City of Casper, 200 North David Street, Casper, WY 82601 | Community Development Department, 200 North David Street, Casper, WY 82601 | August 30, 2013 | 560037
| Unincorporated areas of Natrona County (13-08-0084P) | The Honorable Bill McDowell, Chairman, Natrona County Board of Commissioners, 200 North Center, Casper, WY 82601 | Natrona County Planning and Zoning Department, 120 West 1st Street, Suite 200, Casper, WY 82601 | August 30, 2013 | 560036

(Catalog of Federal Domestic Assistance No. 97.022, “Flood Insurance.”)

Dated: January 31, 2014.
Roy Wright,
Deputy Associate Administrator for Mitigation, Department of Homeland Security, Federal Emergency Management Agency.

[FR Doc. 2014-05312 Filed 3-11-14; 8:45 am]

BILLING CODE 9110-12-P